DEPARTMENT OF COMMERCE

International Trade Administration

[A-570-053, A-570-073, C-570-054, C-570-074]

Certain Aluminum Foil and Common Alloy Aluminum Sheet From the People's Republic of China: Final Results of Antidumping Duty Changed Circumstances Reviews and Rescission of Countervailing Duty Changed Circumstances Reviews

AGENCY: Enforcement and Compliance, International Trade Administration, Department of Commerce.

SUMMARY: The Department of Commerce (Commerce) continues to find that Shanghai Huafon Aluminium Corporation (Shanghai Huafon) is the successor-in-interest to Huafon Nikkei Aluminium Corporation (Huafon Nikkei) for purposes of determining antidumping duty cash deposits and liabilities on certain aluminum foil (aluminum foil) and common alloy aluminum sheet (aluminum sheet) from the People's Republic of China (China). Additionally, Commerce is rescinding the countervailing duty changed circumstance reviews (CCRs) of aluminum foil and aluminum sheet from China based on the lack of necessary information on the record.

DATES: Applicable May 22, 2020.

FOR FURTHER INFORMATION CONTACT: Joshua A. DeMoss, AD/CVD Operations, Office VI, Enforcement and Compliance, International Trade Administration, U.S. Department of Commerce, 1401 Constitution Avenue NW, Washington, DC 20230; telephone: (202) 482-3362.

SUPPLEMENTARY INFORMATION:

Background

On September 17, 2019, Commerce published the Initiation and Preliminary Results, finding Shanghai Huafon to be the successor-in-interest to Huafon Nikkei for purposes of the antidumping duty and countervailing duty orders.¹ In the Initiation and Preliminary Results, interested parties were provided an opportunity to comment and request a public hearing regarding our preliminary results. We received no comments from interested parties nor was a public hearing requested.

¹ See Certain Aluminum Foil and Common Alloy Aluminum Sheet from the People's Republic of China: Notice of Initiation and Preliminary Determination of Antidumping Duty and Countervailing Duty Changed Circumstances Reviews, 84 FR 48909 (September 17, 2019) (Initiation and Preliminary Results).

On October 7, 2019, Commerce determined it lacked certain information with respect to the final determination in the countervailing duty CCRs and requested additional information from Shanghai Huafon.² Shanghai Huafon did not respond to Commerce's request for additional information. Rather, it withdrew its request for the countervailing duty CCRs.³

² See Commerce's Letter, “Antidumping/Countervailing Duty Changed Circumstances Reviews of Aluminum Foil and Sheet from China,” dated October 7, 2019.

³ See Shanghai Huafon's Letter, “Aluminum Foil from the People's Republic of China: Withdraw Request for Changed Circumstances Review,” dated October 11, 2019.

Scope of the Orders

Certain Aluminum Foil

The merchandise covered by these orders is aluminum foil having a thickness of 0.2 mm or less, in reels exceeding 25 pounds, regardless of width. Aluminum foil is made from an aluminum alloy that contains more than 92 percent aluminum. Aluminum foil may be made to ASTM specification ASTM B479, but can also be made to other specifications. Regardless of specification, however, all aluminum foil meeting the scope description is included in the scope, including aluminum foil to which lubricant has been applied to one or both sides of the foil.

Excluded from the scope of this order is aluminum foil that is backed with paper, paperboard, plastics, or similar backing materials on one side or both sides of the aluminum foil, as well as etched capacitor foil and aluminum foil that is cut to shape.

Where the nominal and actual measurements vary, a product is within the scope if application of either the nominal or actual measurement would place it within the scope based on the definitions set forth above. The products under the order are currently classifiable under Harmonized Tariff Schedule of the United States (HTSUS) subheadings 7607.11.3000, 7607.11.6000, 7607.11.9030, 7607.11.9060, 7607.11.9090, and 7607.19.6000. Further, merchandise that falls within the scope of this proceeding may also be entered into the United States under HTSUS subheadings 7606.11.3060, 7606.11.6000, 7606.12.3045, 7606.12.3055, 7606.12.3090, 7606.12.6000, 7606.91.3090, 7606.91.6080, 7606.92.3090, and 7606.92.6080.

Although the HTSUS subheadings are provided for convenience and customs purposes, the written description of the scope of this order is dispositive.

Common Alloy Aluminum Sheet

The merchandise covered by this order is aluminum common alloy sheet (common alloy sheet), which is a flat-rolled aluminum product having a thickness of 6.3 mm or less, but greater than 0.2 mm, in coils or cut-to-length, regardless of width. Common alloy sheet within the scope of this order includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the order if performed in the country of manufacture of the common alloy sheet.

Excluded from the scope of this order is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of this order may also be entered into the United States under HTSUS subheadings 7606.11.3030, 7606.12.3030, 7606.91.3060, 7606.91.6040, 7606.92.3060, 7606.92.6040, 7607.11.9090. Although the HTSUS subheadings are provided for convenience and customs purposes, the written description of the scope of this order is dispositive.

The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and customs purposes, our written description of the scope of this order is dispositive.

Rescission of Countervailing Duty Changed Circumstances Reviews

As noted above, Commerce does not have all necessary information on the record to make a final determination in the countervailing duty CCRs of aluminum foil and aluminum sheet. For the countervailing duty CCRs, Commerce requires, among other things, a longer and well-defined time span for the “look-back” period and additional documents, such as financial statements, pursuant to Turkey Pasta CCR 2009.⁴ Commerce requires this information to make a successor-in-interest finding for countervailing duty orders because we need to review the operations, ownership, corporate or legal structure during the relevant period that could have affected the nature and extent of the respondent's subsidy levels. As Turkey Pasta CCR 2009 states, in a countervailing duty CCR, our focus is government subsidization and whether any changes in the company might affect the nature and extent of that subsidization, while in an antidumping CCR we are concerned, instead, with price discrimination, i.e., the pricing behavior of the company.⁵ Thus, some of the information we request and need for purposes of our analysis are distinct. In this case, because the respondent did not reply to our request for information in the countervailing duty CCRs, we do not have all the necessary information we need to make a determination with respect to the countervailing duty CCRs. Accordingly, we are rescinding the countervailing duty CCRs of aluminum foil and aluminum sheet from China in their entirety.

⁴ See Certain Pasta from Turkey: Preliminary Results of Countervailing Duty Changed Circumstances Review, 74 FR 47225, 47227 (September 15, 2009) (Turkey Pasta CCR 2009), unchanged in Certain Pasta From Turkey: Final Results of Countervailing Duty Changed Circumstances Review, 74 FR 54022 (October 21, 2009).

⁵ See Turkey Pasta CCR 2009, 74 FR at 47227.

Final Results of the Antidumping Duty Changed Circumstances Reviews

For the reasons stated in the Initiation and Preliminary Results, and because we received no comments from interested parties, Commerce continues to find that Shanghai Huafon is the successor-in-interest to Huafon Nikkei for antidumping duty purposes. As a result of this determination, we determine that Shanghai Huafon should receive the antidumping cash deposit rates applicable to Huafon Nikkei. Consequently, Commerce will instruct U.S. Customs and Border Protection to suspend liquidation of all shipments of subject merchandise produced or exported by Shanghai Huafon and entered, or withdrawn from warehouse, for consumption on or after the publication date of this notice in the Federal Register at 73.66 percent for aluminum foil, which is the current antidumping duty cash-deposit rate of aluminum foil for Huafon Nikkei,⁶ and at 49.85 percent for aluminum sheet, which is the current antidumping cash deposit rate of aluminum sheet for Huafon Nikkei.⁷ This cash deposit requirement shall remain in effect until further notice.

⁶ See Certain Aluminum Foil From the People's Republic of China: Amended Final Determination of Sales at Less Than Fair Value and Antidumping Duty Order, 83 FR 17362 (April 19, 2018); see also Certain Aluminum Foil From the People's Republic of China: Amended Final Affirmative Countervailing Duty Determination and Countervailing Duty Order, 83 FR 17360 (April 19, 2018) (collectively, Aluminum Foil Orders).

⁷ See Common Alloy Aluminum Sheet From the People's Republic of China: Antidumping Duty Order, 84 FR 2813 (February 8, 2019); see also Common Alloy Aluminum Sheet From the People's Republic of China: Countervailing Duty Order, 84 FR 2157 (February 6, 2019) (collectively, Aluminum Sheet Orders).

Notification to Interested Parties

This notice is published in accordance with sections 751(b)(1) and 777(i)(1) of the Act and 19 CFR 351.216(b), 351.221(b) and 351.221(c)(3).

Dated: May 15, 2020.
Jeffrey I. Kessler,
Assistant Secretary for Enforcement and Compliance.

[FR Doc. 2020-11113 Filed 5-21-20; 8:45 am]

BILLING CODE 3510-DS-P